DEPARTMENT OF AGRICULTURE

Natural Resources Conservation Service

Notice of Intent: To Request Comments on a Currently Approved Information Collection

AGENCY: Natural Resources Conservation Service (NRCS), USDA.

ACTION: Notice and request for comments.

SUMMARY: In accordance with the Paperwork Reduction Act of 1995 (44 U.S.C. Chapter 35), this notice announces the intention of NRCS to request a revision for a currently approved information collection, Long-Term Contracting.

DATES: Comments on this notice must be received 60 days after publication in the Federal Register to be assured of consideration.

FOR FURTHER INFORMATION CONTACT: Questions and comments should be directed at Leah B. Ricke, Soil Conservationist, USDA, NRCS, Post Office Box 2890, Room 5238-South, Washington, DC 20250; telephone: (202) 720-6168; e-mail: Leah.Ricke@wdc.usda.gov.

SUPPLEMENTARY INFORMATION:

Title: Long-Term Contracting.

Office of Management and Budget (OMB) Number: 0578-0013.

Expiration Date of Approval: September 30, 2009.

Type of Request: Revision of a currently approved collection.

Abstract: The primary objective of NRCS is to work in partnership with the American people and the farming and ranching community to conserve and sustain our natural resources. The purpose of long-term contracting information collection is to provide for programs to extend financial and technical assistance through easements and long-term contracts to landowners and others. These programs provide for making land use changes and installing conservation measures and practices to conserve, develop, and use the soil, water, and related natural resources on private lands. For cost-share programs, Federal financial and technical assistance is based on a conservation plan or schedule of operations that is made a part of an agreement, contract, or easement for a period of time of no less than 1 year and no greater than 10 years. Under the terms of the agreement, the participant agrees to apply, or arrange to apply, the conservation treatment specified in the conservation plan or schedule of operations. In return for this agreement, Federal cost-share payments are made to the land user, or third party, upon successful application of the conservation treatment. For easement programs, NRCS purchases from participants a conservation easement and provides for the easement's protection and management for the life of the easement.

This request for revision reflects the Secretary of Agriculture's authority to continue with the conservation programs at authorized funding levels. Selected long-term contracting forms have been revised to facilitate their use in several different programs. Form CCC-1200 has been changed by splitting it into a new Form NRCS-CPA-1200 (Application) and a new Form NRCS-CPA-1202 (Contract). Forms utilized within business software applications have been modified to a consistent “NRCS-CPA-XXXX” identification format.

The information collected through this package is used by NRCS to ensure the proper use of program funds, including applications for participation, easement acquisition, contract implementation, conservation planning, and application for payment. NRCS will ask for a 3-year OMB approval, with revision, within 60 days of submitting the request.

Estimate of Burden: Public reporting burden for this collection of information is estimated to average 0.75 hours or 45 minutes per response.

Respondents: Individuals, businesses, households, or State, local, or tribal governments.

Estimated Number of Respondents: 37,504.

Estimated Total Annual Burden on Respondents: 25,231.17 hours.

Comments Are invited on: (1) Whether the proposed collection of information is necessary for the proper performance of the functions of the Agency, including whether the information will have practical utility; (2) the accuracy of the Agency's estimate of burden of the proposed collection of information, including the validity of the methodology and assumptions used; (3) ways to enhance the quality, utility, and clarity of the information to be collected; and (4) ways to minimize the burden of the collection of information on those who are to respond, such as through the use of appropriate automated, electronic, mechanical, or other technologic collection techniques or other forms of information technology. Comments may be sent to: Leah B. Ricke, Soil Conservationist, USDA, NRCS, Post Office Box 2890, Room 5238-South, Washington, DC 20250; telephone: (202) 720-6168; e-mail: Leah.Ricke@wdc.usda.gov.

All responses to this notice will be summarized and included in the request for OMB approval.

All comments will become a matter of public record.

Signed in Washington, DC on November 19, 2007.
Arlen L. Lancaster,
Chief.

[FR Doc. E7-23189 Filed 11-29-07; 8:45 am]

BILLING CODE 3410-16-P